DEPARTMENT OF COMMERCE

National Institute of Standards and Technology

Open Meeting of the Internet of Things Advisory Board

AGENCY: National Institute of Standards and Technology (NIST).

ACTION: Notice of open meeting.

SUMMARY: The Internet of Things (IoT) Advisory Board will meet Wednesday, January 18, 2023, and Thursday, January 19, 2023, from 11:00 a.m. until 5:00 p.m., Eastern Time. All sessions will be open to the public.

DATES: The meeting will be held on Wednesday, January 18, 2023, and Thursday, January 19, 2023, from 11:00 a.m. until 5:00 p.m., Eastern Time.

ADDRESSES: The meeting will be a virtual meeting via Webex webcast hosted by the National Cybersecurity Center of Excellence at NIST. Please note registration instructions under the SUPPLEMENTARY INFORMATION section of this notice.

FOR FURTHER INFORMATION CONTACT: Barbara Cuthill, Information Technology Laboratory, National Institute of Standards and Technology, Telephone: (301) 975-3273, Email address: barbara.cuthill@nist.gov.

SUPPLEMENTARY INFORMATION: Pursuant to the Federal Advisory Committee Act, as amended, 5 U.S.C. app., notice is hereby given that the IoT Advisory Board will hold an open meeting Wednesday, January 18, 2023, and Thursday, January 19, 2023, from 11:00 a.m. until 5:00 p.m., Eastern Time. All sessions will be open to the public. The IoT Advisory Board is authorized by section 9204(b)(5) of the William M. (Mac) Thornberry National Defense Authorization Act for Fiscal Year 2021 (Pub. L. 116-283), and advises the IoT Federal Working Group convened by the Secretary by providing recommendations on overcoming barriers to adoption of and challenges to achieving the benefits from IoT technology. Details regarding the IoT Advisory Board's activities are available at https://www.nist.gov/itl/applied-cybersecurity/nist-cybersecurity-iot-program/internet-things-advisory-board.

The agenda is expected to include the following items:

—Board Introductions and Member Activities

—Overview of charter, scope, and expectations

—Overview of legislation creating the IoT Advisory Board

—Framework proposals for recommendations report

—Advisory Board member statements on challenges and barriers to IoT technology adoption

—Discussion of topics raised in member statements

—Outside speakers on challenges and barriers to IoT adoption

—Public Comment

—Board Discussion on Recommendations.

Note that agenda items may change without notice. The final agenda will be posted on the IoT Advisory Board event page at: https://www.nist.gov/itl/applied-cybersecurity/nist-cybersecurity-iot-program/internet-things-advisory-board.

Public Participation: Written comments from the public are invited and may be submitted electronically by email to Barbara Cuthill at the contact information indicated in the FOR FURTHER INFORMATION CONTACT section of this notice by 5 p.m. on Thursday, January 12, 2023.

The IoT Advisory Board agenda will include a period, not to exceed sixty minutes, for submitted comments from the public between 3:00 p.m. and 4:00 p.m. on Thursday, January 19, 2023. Submitted comments from the public will be selected on a first-come, first-served basis and limited to five minutes per person.

Members of the public who wish to expand upon their submitted statements, those who had wished to submit a comment but could not be accommodated on the agenda, and those who were unable to attend the meeting via webinar are invited to submit written statements. In addition, written statements are invited and may be submitted to the IoT Advisory Board at any time. All written statements should be directed to the IoT Advisory Board Secretariat, Information Technology Laboratory by email to: Barbara.Cuthill@nist.gov.

Admittance Instructions: Participants planning to attend via webinar, must register via the instructions found on the IoT Advisory Board's event page at: https://www.nist.gov/itl/applied-cybersecurity/nist-cybersecurity-iot-program/internet-things-advisory-board.

Alicia Chambers,
NIST Executive Secretariat.

[FR Doc. 2022-27131 Filed 12-13-22; 8:45 am]

BILLING CODE 3510-13-P